DEPARTMENT OF AGRICULTURE

Office of the Secretary

Privacy Act of 1974; Addition of a New System of Records; USDA/OES, Enterprise Content Management

AGENCY: Office of the Secretary, USDA.

ACTION: Notice of new system of records; request for comment.

SUMMARY: In accordance with the Privacy Act of 1974, as amended, the U.S. Department of Agriculture (USDA) gives notice of a new Privacy Act system of records and invites public comment on this new records system.

DATES: This notice will be adopted without further publication in the Federal Register on December 4, 2006 unless modified by a subsequent notice to incorporate comments received from the public. Although the Privacy Act requires only that the portion of the system which describes the “routine uses” of the system be published for comment, USDA invites comment on all portions of this notice. Comments must be received by the contact person listed below on or before November 2, 2006.

FOR FURTHER INFORMATION CONTACT: Director of the Office of the Executive Secretariat (OES), U.S. Department of Agriculture, 1400 Independence Avenue, SW., Washington, DC 20250-3300, telephone: (202) 720-7100.

SUPPLEMENTARY INFORMATION: Pursuant to the Privacy Act, 5 U.S.C. 552a, USDA is creating a new system of records, Enterprise Content Management (ECM) to be maintained by the Office of the Executive Secretariat. ECM is based upon a suite of document management applications that have been specifically designed for use by the employees and officers of USDA to manage documents associated with a wide range of administrative and business processes. At present, there are three components or modules that comprise ECM, the Enterprise Correspondence Management Module (ECMM), the General Use Module (GUM), and the Content Analysis Module (CAM). ECMM is designed and operated to support effective management of executive correspondence and other external and internal documents with similar internal business processes. GUM is designed to support effective management of internal business documents. CAM is designed to assist in the analysis and management of public and internal comments related to USDA programs and received in response to requests for such comments.

ECMM does include information regarding individuals, primarily information such as the name and address incident to their correspondence addressed to the Secretary of Agriculture and various other officers and employees of USDA. In a few cases, it includes supplementary information about the individual, most often voluntarily provided by that individual. The purpose of ECMM is to help USDA employees manage correspondence and other documents at any organizational level from initial receipt through completion and archival storage. Department officials are included in the correspondence drafting and policy making process through a managed clearance and control system. The system's workflow capabilities enable documents to be routed within or among USDA agencies and offices for collaborative input or review, and security that ensures information is available only to authorized personnel.

A “Report on New System,” required by 5 U.S.C. 552a(r), as implemented by the Office of Management and Budget (OMB) Circular A-130, was sent to the Chairman, Committee on Governmental Affairs, United States Senate, the Chairman, Committee on Government Reform and Oversight, House of Representatives, and the Administrator, Office of Information and Regulatory Affairs, Office of Management and Budget.

Signed at Washington, DC, on September 27, 2006.
Mike Johanns,
Secretary of Agriculture.

System number:

USDA/OES-1.

System name:

USDA Enterprise Content Management (ECM).

Security classification:

None.

System location:

The system is hosted on computers located within secure computing environments at the National Information Technology Center in Kansas City, Missouri, and at the Information Technology Services Web Farm in St. Louis, Missouri. Use of the application is restricted to authorized users within USDA, and the applications are restricted to authorized computers. Access is through the USDA Intranet.

Categories of individuals covered by the system:

Individuals corresponding with USDA, from the public, private, and political sectors; system users, managers, and Systems Administrators.

Categories of records in the system:

Correspondence inquiries from the public, private, political, and internal sectors, and related documents, from the beginning of the inquiry up to and including the resolution and response back to the originator. Lists and databases will eventually be added using the other document management applications designed for use by the employees and officers of USDA to manage documents associated with a wide range of administrative and business processes. This information is not likely to relate to individuals, but to internal directives, budget, or scientific research.

Authority for maintenance of the system:

44 U.S.C. 3101; 44 U.S.C. 3012; the Government Paperwork Elimination Act (“GEPA”), Pub. L. 105-277, 5 U.S.C. 3504 note; the Paperwork Reduction Act, 44 U.S.C. 3501 to 3520; the E-Government Act of 2002, 44 U.S.C. 3541, et seq.

Purpose(s):

The ECM system is designed for use by the employees and officers of USDA to manage documents associated with a wide range of administrative and business processes. At present, there are three components or modules that comprise ECM, the Enterprise Correspondence Management Module (ECMM), the General Use Module (GUM), and the Content Analysis Module (CAM). ECMM is designed and operated to support effective management of executive correspondence and other external and internal documents with similar internal business processes. GUM is designed to support effective management of internal business documents. CAM is designed to assist in the analysis and management of public and internal comments related to USDA programs and received in response to requests for such comments. Any information about an individual is usually provided by that individual.

Routine uses of records maintained in the system, including categories of users and the purposes of such users:

1. Information may be disclosed to an appropriate agency, whether Federal, State, or local, charged with the responsibility of investigating or prosecuting a violation of law, rule, or regulation, or order issued pursuant thereto, when information available indicates a violation or potential violation of law, whether civil, criminal, or regulatory in nature and whether arising by general statute or particular program statute, or by rule, regulation, or order issued pursuant thereto, if the information disclosed is relevant to any enforcement, regulatory, investigative, or prosecutorial responsibility of the receiving entity.

2. Information may be disclosed to the Department of Justice for the defense of suits against the United States or its officers, or for the institution of suits for the recovery of claims by the United States Department of Agriculture.

3. Information may be disclosed to a Member of Congress or to a Congressional staff member in response to an inquiry of the Congressional office made at the written request of the constituent about whom the record is maintained. In such cases, however, the Member's right to a record is not greater than that of the individual.

4. Records from this system of records may be disclosed to the National Archives and Records Administration and to the General Services Administration for records management inspections conducted under 44 U.S.C. 2904 and 2906.

5. Information may be disclosed to agency contractors, experts, and consultants or volunteers who have been engaged by the agency to assist in the performance of a service related to this system of records and who need to have access to the records in order to perform the activity. Recipients shall be required to comply with the requirements of the Privacy Act of 1974, as amended, pursuant to 5 U.S.C. 552a(m).

Disclosure to consumer reporting agencies:

None.

Policies and practices for storing, retrieving, accessing, retaining, and disposing of records in the system:

Storage:

These records are maintained in hard copy formats and computer processible storage media.

Retrievability:

These records may be retrieved by the document control number, date, name of correspondent, or subject.

Safeguards:

Computer records are maintained in a secure password-protected environment; and access is limited to those who have a need to know. Permission level assignments allow users access only to those functions for which they are authorized. System users, managers, and ECM System Administrators have access to the data in the system. Access is controlled by the eAuthentication System on the USDA Intranet, and roles are determined by the application administrators. Paper records are maintained in a secure, limited-access area, which is locked during non-duty hours, and which requires a USDA employee identification badge or visitor pass to enter.

Retention and disposal:

The retention of data in the system is in accordance with applicable USDA Records Disposition Schedules as approved by the National Archives and Records Administration. Hard copy records are maintained by varying periods of time, and temporary records are disposed of by shredding when the retention period is complete.

System manager(s) and address:

Director, Office of the Executive Secretariat, U.S. Department of Agriculture, 1400 Independence Avenue, SW., Washington, DC 20250.

Notification Procedures:

Individuals who want to know whether this system of records contains information about them, who want to access their records, or who want to contest the contents of a record, should make a written request to the Director, Office of the Executive Secretariat, U.S. Department of Agriculture, 1400 Independence Avenue, SW., Washington, DC 20250. Individuals must furnish the following information for their records to be located and identified:

A. Full name or other identifying information necessary or helpful in locating the record;

B. Why you believe the system may contain your personal information;

C. A statement indicating the type of request being made (i.e., access, correction or amendment) and whether a personal inspection of the records or a copy of them by mail is desired;

D. Signature.

Record access procedures:

Individuals wishing to request access to their records should follow the Notification Procedures. Individuals requesting access are also required to provide adequate identification, such as a driver's license, employee identification card, social security card, or other identifying document. Additional identification procedures may be required in some instances.

Contesting record procedures:

Individuals requesting correction or amendment of their records should follow the Notification Procedures and the Record Access Procedures and also identifying the record or information to be changed, giving specific reasons for the change.

Record source categories:

Information in this system of records is primarily provided by the individual corresponding with USDA or Agency officials, such as managers and supervisors, responding to individuals or Members of Congress.

Exemptions claimed for the system:

None.

[FR Doc. 06-8418 Filed 10-2-06; 8:45 am]

BILLING CODE 3410-01-M